DEPARTMENT OF LABOR

Employment and Training Administration

[TA-W-41,446]

Duel Systems, a Wholly Owned Subsidiary of Methode Electronics, San Jose, California; Notice of Termination of Investigation

Pursuant to section 221 of the Trade Act of 1974, an investigation was initiated on April 29, 2002 in response to a petition filed by a company official on behalf of workers at Duel Systems, a wholly owned subsidiary of Methode Electronics, San Jose, California.

The petitioner has requested that the petition be withdrawn. Consequently, further investigation in this case would serve no purpose, and the investigation has been terminated.

Signed in Washington, DC, this 5th day of August, 2002.
Linda G. Poole,
Certifying Officer, Division of Trade Adjustment Assistance.

[FR Doc. 02-21098 Filed 8-19-02; 8:45 am]

BILLING CODE 4510-30-P